DEPARTMENT OF ENERGY

Federal Energy Regulatory Commission

Notice of Availability of Environmental Assessment

FFP Missouri 16, LLC | Project No. 13753-002
FFP Missouri 15, LLC | Project No. 13762-002
Solia 8 Hydroelectric, LLC | Project No. 13771-002
FFP Missouri 13, LLC | Project No. 13763-002
Solia 5 Hydroelectric, LLC | Project No. 13766-002
Solia 4 Hydroelectric, LLC | Project No. 13767-002

In accordance with the National Environmental Policy Act of 1969 and the Federal Energy Regulatory Commission's (Commission or FERC) regulations, 18 Code of Federal Regulations Part 380, Office of Energy Projects staff has reviewed applications for original licenses for the Opekiska Lock and Dam Hydroelectric Project (FERC No. 13753-002), Morgantown Lock and Dam Hydroelectric Project (FERC No. 13762-002), Point Marion Lock and Dam Hydroelectric Project (FERC No. 13771-002), Grays Landing Lock and Dam Hydroelectric Project (FERC No. 13763-002), Maxwell Locks and Dam Hydroelectric Project (FERC No. 13766-002), and Monongahela Locks and Dam 4 (also known as Charleroi Locks and Dam) Hydroelectric Project (FERC No. 13767-002) on the Monongahela River. These projects are referred to collectively as the Monongahela River Projects.

The projects would all be located at existing locks and dams owned by the U.S. Army Corps of Engineers on the Monongahela River. The Opekiska Lock and Dam Hydroelectric Project would be located upstream of Fairmont, West Virginia, in Monongalia County at river mile (RM) 115.4. The Morgantown Lock and Dam Hydroelectric Project would be located downstream of Morgantown, West Virginia, in Monongalia County at RM 102. The Point Marion Lock and Dam Hydroelectric Project would be located near Point Marion, Pennsylvania, in Fayette County at RM 90.8. The Grays Landing Lock and Dam Hydroelectric Project would be located southwest of Masontown, Pennsylvania, in Greene and Fayette Counties at RM 82. The Maxwell Locks and Dam Hydroelectric Project would be located downstream of Brownsville, Pennsylvania, in Washington County at RM 61.2. The Monongahela Locks and Dam 4 Hydroelectric Project would be located near Charleroi, Pennsylvania, in Washington County at RM 41.5. The projects would collectively occupy 19.9 acres of federal land.

Staff has prepared a multi-project environmental assessment (EA) that analyzes the potential environmental effects of the six projects and concludes that constructing and operating the projects, with appropriate environmental protection measures, would not constitute a major federal action that would significantly affect the quality of the human environment.

A copy of the EA is available for review at the Commission in the Public Reference Room or may be viewed on the Commission's Web site at www.ferc.gov using the “eLibrary” link. Enter the docket number for one of the proposed projects (e.g., P-13753), excluding the last three digits, in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to these or other pending projects. For assistance, contact FERC Online Support.

Any comments should be filed within 30 days from the date of this notice. The Commission strongly encourages electronic filing. Please file comments using the Commission's eFiling system at http://www.ferc.gov/docs-filing/efiling.asp. For assistance, please contact FERC Online Support at FERCOnlineSupport@ferc.gov or toll-free at 1-866-208-3676, or for TTY, 202-502-8659. In lieu of electronic filing, please send a paper copy to: Secretary, Federal Energy Regulatory Commission, 888 First Street NE., Washington, DC 20426. The first page of any filing should include: “Opekiska Lock and Dam Hydroelectric Project No. 13753-002, Morgantown Lock and Dam Hydroelectric Project No. 13762-002, Point Marion Lock and Dam Hydroelectric Project No. 13771-002, Grays Landing Lock and Dam Hydroelectric Project No. 13763-002, Maxwell Locks and Dam Hydroelectric Project No. 13766-002, and/or Monongahela Locks and Dam 4 Hydroelectric Project No. 13767-002,” as appropriate.

For further information, contact Nicholas Ettema at (202) 502-6565 or by email at nicholas.ettema@ferc.gov.

Dated: September 30, 2016.
Kimberly D. Bose,
Secretary.

[FR Doc. 2016-24271 Filed 10-6-16; 8:45 am]

BILLING CODE 6717-01-P